DEPARTMENT OF THE INTERIOR

Bureau of Indian Affairs

[2231A2100DD/AAKC001030/A0A501010.999900; OMB Control Number 1076-NEW]

Agency Information Collection Activities; Indian Affairs Public Health Needs Assessment

AGENCY: Bureau of Indian Affairs, Interior.

ACTION: Notice of information collection; request for comment.

SUMMARY: In accordance with the Paperwork Reduction Act of 1995, we, the Assistant Secretary—Indian Affairs (AS-IA) are proposing a new information collection.

DATES: Interested persons are invited to submit comments on or before August 30, 2022.

ADDRESSES: Send your comments on this information collection request (ICR) by mail to Steven Mullen, Information Collection Clearance Officer, Office of Regulatory Affairs and Collaborative Action—Indian Affairs, U.S. Department of the Interior, 1001 Indian School Road NW, Suite 229, Albuquerque, New Mexico 87104; or by email to comments@bia.gov. Please reference Office of Management and Budget (OMB) Control Number 1076-NEW in the subject line of your comments.

FOR FURTHER INFORMATION CONTACT: To request additional information about this ICR, contact Tyler White, Lieutenant Commander, U.S. Public Health Service, Office of Facilities, Property and Safety Management by email at Tyler.white@bia.gov or by via telephone at 505-563-5212. Individuals in the United States who are deaf, deafblind, hard of hearing, or have a speech disability may dial 711 (TTY, TDD, or TeleBraille) to access telecommunications relay services.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Enhancing the public health and safety capacity throughout Indian Affairs is a force multiplier in achieving the goals of our agency and in meeting the Occupational Safety and Health Act of 1970, Section 5 directive to create a place of employment free from recognized hazards. The purpose of this survey is to identify and prioritize public health issues and needs and enhance the public health and safety capacity throughout Indian country. The Office of Facilities, Property and Safety Management (OFPSM) Public Health and Safety (PHS) Team will use survey results to develop and coordinate action plans.

Title of Collection: Indian Affairs Public Health Needs Assessment.

OMB Control Number: 1076-NEW.

Form Number: None.

Type of Review: New.

Respondents/Affected Public: Tribal governments, bureau-operated and tribally-controlled schools and justice programs.

Total Estimated Number of Annual Respondents: 1,000.

Total Estimated Number of Annual Responses: 1,000.

Estimated Completion Time per Response: 10 minutes.

Total Estimated Number of Annual Burden Hours: 167.

Respondent's Obligation: Voluntary.

Frequency of Collection: On occasion.

Total Estimated Annual Nonhour Burden: $0.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2022-14081 Filed 6-30-22; 8:45 am]

BILLING CODE 4337-15-P